DEPARTMENT OF DEFENSE

Office of the Secretary

Department of Defense Military Family Readiness Council (MFRC); Notice of Federal Advisory Committee Meeting

AGENCY: Department of Defense.

ACTION: Notice.

SUMMARY: The Department of Defense is publishing this notice to announce a Federal Advisory Committee meeting of the Department of Defense Military Family Readiness Council. This meeting will be open to the public.

DATES: Wednesday, September 14, 2016, from 1:00 p.m. to 3:00 p.m.

ADDRESSES: Pentagon Conference Center Room B6 (escorts will be provided from the Pentagon Metro entrance).

FOR FURTHER INFORMATION CONTACT: Ms. Melody McDonald or Ms. Betsy Graham, Office of the Deputy Assistant Secretary of Defense (Military Community & Family Policy), Office of Family Readiness Policy, 4800 Mark Center Drive Alexandria, VA 22350-2300, Room 3G15. Telephones (571) 372-0880; (571) 372-0881 and/or email: OSD Pentagon OUSD P-R Mailbox Family Readiness Council, osd.pentagon.ousd-p-r.mbx.family-readiness-council@mail.mil.

SUPPLEMENTARY INFORMATION:

This meeting is being held under the provisions of the Federal Advisory Committee Act of 1972 (5 U.S.C. Appendix, as amended), the Government in the Sunshine Act of 1976 (5 U.S.C. 552b, as amended), and 41 CFR 102-3.150. The purpose of the Council is to review and make recommendations to the Secretary of Defense regarding policy and plans supporting military family readiness; monitor requirements for the support of military family readiness by the Department of Defense; and evaluate and assess the effectiveness of the military family readiness programs and activities of the Department of Defense.

Pursuant to 5 U.S.C. 552b and 41 CFR 102-3.140 through 102-3.165, this meeting is open to the public, subject to the availability of space. Members of the public who are entering the Pentagon should arrive at the visitor center next to the Metro entrance 30 minutes before the scheduled meeting time to allow time to pass through the security check points. Members of the public need to email the Council at osd.pentagon.ousd-p-r.mbx.family-readiness-council@mail.mil no later than 5:00 p.m., on Thursday, September 8, 2016 to arrange for an escort from the security check point to the Conference Room area. Pursuant to 41 CFR 102-3.105(j) and 102-3.140, and section 10(a)(3) of the Federal Advisory Committee Act of 1972, interested persons may submit a written statement for consideration by the Council. Persons desiring to submit a written statement to the Council must submit to the email address osd.pentagon.ousd-p-r.mbx.family-readiness-council@mail.mil, no later than 5:00 p.m., on Wednesday, September 7, 2016.

The purpose of this meeting is to develop Fiscal Year 2016 recommendations for the Secretary of Defense regarding topics discussed at the June 16, 2016 meeting of the Council, including military family health and family financial readiness; and to determine Council focus items for Fiscal Year 2017.

Wednesday, September 14, 2016 Meeting Agenda

Welcome & Administrative Remarks

Discuss and develop recommendations concerning military family health and family financial readiness

Discuss focus items for FY2017

Closing Remarks

Note: Exact order may vary

Dated: August 12, 2016.
Aaron Siegel,
Alternate OSD Federal Register Liaison Officer, Department of Defense.

[FR Doc. 2016-19635 Filed 8-16-16; 8:45 am]

BILLING CODE 5001-06-P